DEPARTMENT OF JUSTICE

Antitrust Division

Notice Pursuant to the National Cooperative Research and Production Act of 1993—Multiservice Switching Forum (“MSF”)

Notice is hereby given that, on July 1, 1999, pursuant to Section 6(a) of the National Cooperative Research and Production Act of 1993, 15 U.S.C. 4301 et seq. (“the Act”), Multiservice Switching Forum (“MSF”) has filed written notifications simultaneously with the Attorney General and the Federal Trade Commission disclosing changes in its membership status. The notifications were filed for the purpose of extending the Act's provisions limiting the recovery of antitrust plaintiffs to actual damages under specified circumstances. Specifically, Convergent Communications, Englewood, CO; ETRI, Taejon, KOREA; GTE, Waltham, MA; Hewlett Packard, Palo Alto, CA; LG Information & Comm., Kyunggi-Do, KOREA; Orange PCS Ltd, Almondsbury Park, Bristol, UNITED KINGDOM; SK Telecom, Seoul, KOREA; Sprint, Overland Park, KS; and Westwave Communications, Santa Rosa, CA have been added as parties to this venture.

No other changes have been made in either the membership or planned activity of the group research project. Membership in this group research project remains open, and Multiservice Switching Forum (“MSF”) intends to file additional written notification disclosing all changes in membership.

On January 22, 1999, Multiservice Switching Forum (“MSF”) filed its original notification pursuant to Section 6(a) of the Act. The Department of Justice published a notice in the Federal Register pursuant to Section 6(b) of the Act on May 26, 1999 (64 FR 28519).

The last notification was filed with the Department on April 20, 1999. A notice has not yet been published in the Federal Register.

Constance K. Robinson,
Director of Operations, Antitrust Division.

[FR Doc. 00-3964 Filed 2-17-00; 8:45 am]

BILLING CODE 4410-11-M